DEPARTMENT OF JUSTICE

Notice of Lodging of a Consent Decree Under the Clean Water Act

Notice is hereby given that on January 6, 2009, a proposed Consent Decree in United States v. City of Ironton and the State of Ohio, Civil Action No. 09-cv-00012, was lodged with the United States District Court for the Southern District of Ohio.

In this action the United States seeks civil penalties and injunctive relief for violations of the Clean Water Act, 33 U.S.C. 1251 et seq., in connection with the City of Ironton's operation of its municipal wastewater and sewer system. The Complaint alleges that the City's discharges from its combined sewer overflows (“CSOs”) violate the Clean Water Act because the City's discharge of untreated sewage into the Ohio River violates limitations and conditions in the City's National Pollutant Discharge Elimination System (NPDES) permit. The Complaint further alleges that the City failed to adequately control for solids and floatables as well as failed to timely submit a control plan to address its CSO discharge.

Under the proposed Consent Decree, the City would be required to: (1) Implement injunctive measures that will eliminate all discharges from its CSOs, at a total cost of approximately $12.5 million; (2) pay the United States a civil penalty of $49,000; and (3) pay the State of Ohio a civil penalty of $49,000. The proposed Decree would require the sewer improvements to be implemented over an 18-year period.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States v. City of Ironton and the State of Ohio, D.J. Ref. 90-5-1-1-08729.

The proposed Consent Decree may be examined at the Office of the United States Attorney, Southern District of Ohio, 221 East Forth Street, Suite 400, Cincinnati, Ohio 45202 (contact Assistant United States Attorney Donetta Wiethe (513/684-3711)), and at U.S. Environmental Protection Agency, Region 5, 77 West Jackson Boulevard, Chicago, IL 60604-3590 (contact Associate Regional Counsel Steven Kaiser (312/353-3804)). During the public comment period, the proposed Consent Decree, may also be examined on the following Department of Justice Web site, to http://www.usdoj.gov/enrd/Consent_Decrees.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $37.75 (25 cents per page reproduction cost) payable to the U.S. Treasury or, if by e-mail or fax, forward a check in that amount to the Consent Decree Library at the stated address.

William Brighton,
Assistant Chief. Environmental Enforcement Section, Environment and Natural Resources Division.

[FR Doc. E9-347 Filed 1-9-09; 8:45 am]

BILLING CODE 4410-15-P